DEPARTMENT OF JUSTICE

Notice of Lodging of Proposed Amendment to Consent Decree Under the Clean Water Act

On August 5, 2022, the Department of Justice lodged a proposed third amendment to a consent decree with the United States District Court for the Eastern District of Missouri in the lawsuit entitled in United States, et al. v. Metropolitan St. Louis Sewer District, Civil Action No. 4:07-CV-01120.

Under the original 2012 consent decree, the Metropolitan St. Louis Sewer District (“MSD”) agreed to undertake numerous measures to come into compliance with the Clean Water Act, including constructing three combined sewer overflow (“CSO”) storage tunnels. MSD still is in the process of complying with the 2012 decree. The proposed amendment would allow MSD to replace two of these CSO storage tunnels with one larger CSO storage tunnel to accommodate overflows from all of the outfalls related to the original two CSO storage tunnels.

The publication of this notice opens a period of public comment on the proposed amendment. Comments should be addressed to the Assistant Attorney General, Environment and Natural Resources Division, and should refer to United States, et al. v. Metropolitan St. Louis Sewer District, D.J. Ref. No. 90-5-1-1-08111. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed amendment may be examined and downloaded at this Department of Justice website: http://www.justice.gov/enrd/consent-decrees. We will provide a paper copy of the proposed amendment upon written request and payment of reproduction costs. Please mail your request and payment to: Consent Decree Library, U.S. DOJ—ENRD, P.O. Box 7611, Washington, DC 20044-7611.

Please enclose a check in the amount of $3.25 (25 cents per page reproduction cost) payable to the United States Treasury.

Susan M. Akers,
Assistant Section Chief, Environmental Enforcement Section, Environment and Natural Resources Division.

[FR Doc. 2022-17180 Filed 8-9-22; 8:45 am]

BILLING CODE 4410-15-P